DEPARTMENT OF DEFENSE

Department of the Army, Corps of Engineers

Intent To Prepare a Supplemental Environmental Impact Statement for the Route 460 Location Study From Prince George County to the City of Suffolk, VA

AGENCY: Department of the Army, U.S. Army Corps of Engineers, DoD.

ACTION: Notice of Intent.

SUMMARY: The Federal Highway Administration (FHWA) and the United States Army Corps of Engineers (USACE), Norfolk District, as joint lead federal agencies, and in cooperation with the Virginia Department of Transportation (VDOT), will prepare a Supplemental Environmental Impact Statement (SEIS) for the Route 460 Location Study Final Environmental Impact Statement (FEIS). The purpose of this SEIS is to evaluate new information regarding the aquatic resource impacts and alternatives described in the June 2008 FEIS and the September 2008 Record of Decision (ROD). In addition, FHWA is evaluating proposed changes to the termini of the selected alternative and the proposed interchange at Route 620, and proposed changes to the selected alignment to avoid and minimize aquatic resource impacts.

The USACE is preparing the document to produce a supplemented FEIS that fully evaluates the new information and to gather information that informs and supports the USACE's evaluation of the Department of the Army Individual Permit (IP) application submitted by U.S. Route 460 Mobility Partners (the Applicant) for the discharge of fill material into waters of the United States in conjunction with the construction of the Route 460 Corridor Improvements Project (Project). The USACE was a cooperating agency in the preparation of the June 2008 FEIS and will adopt that document as appropriate.

DATES: Submit comments on or before January 27, 2014.

ADDRESSES: Alice Allen-Grimes, U.S. Army Corps of Engineers, Regulatory Branch, 803 Front Street, Norfolk, VA 23510 or Ed Sundra, Division Administrator, Federal Highway Administration, 400 North 8th Street, Suite 750, Richmond, VA 23219.

FOR FURTHER INFORMATION CONTACT: Alice Allen-Grimes, email: alice.w.allen-arimes@usace.army.mil; (757) 201-7219. Ed Sundra, email: ed.sundra@dot.gov; (804) 775-3357.

SUPPLEMENTARY INFORMATION: 1. Description of the Proposed Action and Background: U.S. Route 460 Mobility Partners proposes to construct a limited access principle arterial tolled facility on new location for approximately 55 miles which would be located to the south and roughly parallel to the existing Route 460 corridor between Interstate 295 in Prince George County and Route 58 in the City of Suffolk, Virginia. The typical section consists of a four-lane, divided highway with two 12-foot lanes in each direction, a 40-foot median, and paved shoulders. Seven interchanges are proposed along the project at the secondary roads. The Applicant has entered into a design-build contract with VDOT to design and construct the Project. Upon determining that the submitted permit application is complete, the USACE will issue a public notice and continue processing the permit application.

An FEIS for the Route 460 Location Study was approved by FHWA in June 2008 and a ROD was issued by FHWA in September 2008. U.S. Route 460 Mobility Partners has entered into a contract with VDOT to obtain permits and construct the Preferred Alternative identified in the 2008 FEIS/ROD. In November 2012, based upon the information before them at the time, FHWA completed a National Environmental Policy Act (NEPA) Re-evaluation of the FEIS concluding that an SEIS was not needed. Based on new information bearing on the environmental impacts, including the aquatic impacts, it was later decided that an SEIS is required.

This SEIS will review information from the Route 460 Location Study FEIS/ROD, incorporate new information, update the alternatives and impacts analyses, and assess impacts not previously evaluated in the FEIS/ROD. To streamline federal processes, the SEIS will also include the USACE's NEPA evaluation.

2. Alternatives: Alternatives to be considered for the proposed project are the No-Build Alternative, the FHWA/VDOT preferred alternative (Preferred Alternative from the 2008 FEIS/ROD) and the FHWA/VDOT preferred alternative revised to include one or more of the following proposed changes: changes to the termini, the proposed interchange at Route 620, and alignment shifts to avoid and minimize impacts.

Additionally, so that the USACE may fulfill its required alternatives analysis responsibilities, consideration will also be given to the alternative from the DEIS to improve the existing Route 460 corridor (CBA-2), an alternative to provide a limited access tolled facility along the existing Route 460 corridor (CBA-2 Tolled), and potentially, other alternatives identified during the SEIS process.

The SEIS will also document the alternatives previously eliminated from consideration by FHWA. Actions available to the USACE for the proposed project are to issue the IP, issue the IP with special conditions, or deny the IP.

3. Scoping and Public Review Process: Throughout the development of the project, a variety of scoping and public involvement opportunities were provided to alert the public about the project, provide information and updates, and solicit feedback. These opportunities included but were not limited to a series of public hearings in the corridor when the DEIS was issued in 2005 and a series of public meetings in 2007 under Virginia's PPTA to evaluate conceptual proposals received from the private sector in response to the solicitation of proposals. Most recently, VDOT hosted public meetings in 2012 to update the public on the project and respond to public input.

To ensure that a full range of issues related to the Project are addressed and all significant issues identified, comments and suggestions are invited from all interested parties. Comments and suggestions concerning the range of issues to be evaluated under the SEIS should be submitted to FHWA and the Corps at (see ADDRESSES) within 30 days of the issuance of this notice to ensure timely consideration.

Based on the extensive public involvement to date on the proposed Project, no public input on the scope of the SEIS will be requested beyond the solicitation by this notice for comments on the range of issues to be evaluated. No formal scoping meetings will be held.

Notification of the availability of the draft SEIS for public and agency review will be made in the Federal Register and using other methods to be jointly determined by FHWA, USACE and VDOT. Those methods will identify where interested parties can go to review a copy of the draft SEIS.

For the draft SEIS, public meetings will be held and a minimum 45-day comment period will be provided. The public meetings will be conducted by VDOT and announced a minimum of 15 days in advance of the meetings. VDOT will provide information for the public meetings, including date, time and location through a variety of means including their Web site (http://www.virginiadot.org/default_noflash.asp) and by newspaper advertisement. In addition to the draft SEIS public involvement opportunities, the USACE will issue a public notice for a minimum 30-day comment period following receipt of a complete application.

4. Issues: Based on coordination between FHWA, USACE, and VDOT, the issues to be analyzed in the SEIS will include, but are not limited to, alternatives based on the updated effects to aquatic resources including wetland and stream impacts, threatened and endangered species, relocations, cultural resources, and cost.

5. Additional Review and Consultation: The SEIS will comply with other federal and state requirements including, but not limited to, the state water quality certification under Section 401 of the CWA; protection of water quality under the Virginia/National Pollutant Discharge Elimination System; consideration of minority and low income populations under Executive Order 12898; protection of endangered and threatened species under Section 7 of the Endangered Species Act; and protection of cultural resources under Section 106 of the National Historic Preservation Act.

6. Availability of the Draft SEIS: The Draft SEIS is expected to be published and circulated during the Spring of 2014, and a public meeting will be held by VDOT after the publication of the Draft SEIS.

Dated: December 13, 2013.
Paul B. Olsen,
Colonel, U.S. Army, Commanding.

[FR Doc. 2013-30695 Filed 12-26-13; 8:45 am]

BILLING CODE 3720-36-P